NATIONAL SCIENCE FOUNDATION

Notice of Availability of a Record of Decision Following a Final Comprehensive Environmental Evaluation for Antarctic Activities

AGENCY: National Science Foundation.

ACTION: Notice of availability of a Record of Decision following a Final Environmental Impact Statement/Comprehensive Environmental Evaluation (FEIS/FCEE) for activities proposed to be undertaken in Antarctica.

SUMMARY: The National Science Foundation gives notice of the availability of a Final Environmental Impact Statement/Comprehensive Environmental Evaluation (FEIS/FCEE) for activities proposed to be undertaken in Antarctica.

The Office of Polar Programs (OPP) has decided to proceed with the development and implementation of surface traverse capabilities in Antarctica. Given the United States Antarctica Program's (USAP) mission to support polar research, the proposed action is expected to result in reduced reliance on aircraft resources, increased opportunities for sciences at USAP facilities, and resources savings. In reaching this decision, the Director of the Office of Polar Programs has considered the potential environmental impacts addressed in the Development and Implementation of Surface Traverse Capabilities in Antarctica EIS/CEE. The Director has also considered input from Antarctic Treaty nations and the public pertaining to the EIS/CEE for Development and Implementation of Surface Traverse Capabilities in Antarctica.

Pursuant to 16 U.S.C. 2403a, the National Science Foundation has prepared this Record of Decision following the Final Environmental Impact Statement/Comprehensive Environmental Evaluation for Development and Implementation of Surface Traverse Capabilities in Antarctica, Amundsen-Scott Station, South Pole, Antarctica.

ADDRESSES: Copies of the Record of Decision are available upon request from: Dr. Polly A. Penhale, National Science Foundation, Office of Polar Programs, 4201 Wilson Blvd., Suite 755, Arlington, VA 22230. Telephone: (703) 292-8033.

SUPPLEMENTARY INFORMATION: A Notice of Availability of the draft EIS/CEE was published in the Federal Register. Via a Web site link, the draft Development and Implementation of Surface Traverse Capabilities in Antarctica EIS/CEE was made available for review to all interested parties including Antarctic Treaty nations, international and U.S. Federal agencies, research institutions, private organizations, and individuals. Comments were received and considered as described in Appendix D of the environmental document, and include comments from the Australian Antarctic Division, German Federal Environmental Agency, Antarctica New Zealand, The Antarctic and Southern Ocean Coalition, and Antarctic Treaty Consultative Meeting (ATCM)/Council on Environmental Protection (CEP). The National Science Foundation has made the Final EIS/CEE and Record of Decision for the Development and Implementation of Surface Traverse Capabilities in Antarctica available on the internet at: http://www.nsf.gov/od/opp/antarct/treaty/cees.htm.

Polly A. Penhale,
Environmental Officer, Office of Polar Programs, National Science Foundation.

[FR Doc. 05-12664 Filed 6-24-05; 8:45 am]

BILLING CODE 7555-01-M